DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

State Treatment and Needs Assessment Program Studies—New—Beginning in Fiscal Year 1999, SAMHSA's Center for Substance Abuse Treatment (CSAT), as part of its State Treatment Needs Assessment Program (STNAP), awards grants to States to conduct studies for the purpose of determining the need and demand for substance abuse treatment within each State. In order to receive funds from the Substance Abuse Prevention and Treatment Block Grant, States must submit in their annual block grant applications an assessment of service needs Statewide, at the sub-state level, and for specified population groups (as required by Section 1929 of the Public Health Service Act).

Most States receiving these grants will conduct an adult telephone household survey to collect information on needed treatment for substance abuse/dependence. In addition, many States will conduct a variety of more focused studies which will collect data on treatment need in special populations, including adolescents, Temporary Assistance for Needy Families (TANF) recipients, transients, arrestees and other criminal justice populations. There are also two separate, yet related, criminal justice studies that focus on the need for treatment resources among arresters (implemented in conjunction with the National Institute of Justice Arrestee Drug Abuse Monitoring (ADAM) program) and among recently incarcerated inmates. States are required to use core protocols comprised of basic study design, data collection methods, and a core set of questions for these data collections.

In addition, there are three protocols that do not require primary data collection. All States are required to implement the Administrative, Client-Level Treatment protocol, which involves use of a unique client identifier to enable linking substance abuse treatment client admissions and discharges and to identify multiple episodes for the same client. Under Section 1935 of the PHS Act, once a State receives funding under the STNAP program, it must continue to collect, analyze and report these client data to SAMHSA after grant funding ends. There are two other protocols that employ analytic techniques for existing secondary data. These are the Database Linkage Core Protocol and the Social Indicators Core Protocol.

The estimated annualized burden for the State needs assessment studies over the next three years is presented below.

Study | Number of respondents | Number of responses/respondent | Total responses | Hours per response | Total hour burden
Administrative Client—Level State data file ¹ | 14 | 1 | 14 | 6 | 84
Database Linkage—State data file ² | (6) | 1 | 6 | 6 | 36
Social Indicators—State data file ³ | (4) | 1 | 4 | 6 | 24
STNAP Survey | 13,200 | 1 | 13,200 | 0.30 | 3,960
STNAP Survey State data file ⁴ | (6) | 1 | 6 | 6 | 36
ADAM-CSAT Partner | 4,350 | 1 | 4,350 | 0.51 | 2,240
ADAM-CSAT Partner State data file ⁵ | (6) | 1 | 6 | 6 | 36
Inmate Population (2 States) | 900 | 1 | 900 | 0.50 | 450
Inmate Population State data file ⁶ | (2) | 1 | 2 | 6 | 12
Annualized burden | 18,464 |  | 18,488 |  | 6,878
¹ Based on 7 new cooperative agreements per year. Each State must submit a file annually thereafter. 7+14+21=42 or an average 14 data files per year.
² Based on 6 States per year proposing a database linkage study and submitting a data file at the end of the study. The studies are to be conducted once in the three year cooperative agreement.
³ Based on 4 States per year proposing a social indicator study and submitting a data file at the end of the study. The studies are to be conducted once in the three year cooperative agreement.
⁴ Based on 6 States per year proposing a STNAP Survey study and submitting a data file at the end of the study. The studies are to be conducted once in the three year cooperative agreement.
⁵ Based on 2 States proposing a new ADAM-CSAT Partner site and submitting a data file annually for three years (2 data files in first year + 2 more in second year = 4 data files + 2 more in third year or 6 data files = 12 data files in three years); 3 States proposing an addenda to an existing ADAM site (collected twice a year) and submitting a data file at the end of the one-time study in three years; and 2 States proposing an ADAM outreach study conducted once in three years. (Total data files in three years of 12 (new sites) +3+2=17 in three years or an average of 6 data files per year.)
⁶ Based on 2 States per year proposing an Inmate Population study and submitting a data file at the end of the study. The studies will be conducted once in the three year cooperative agreement.

Written comments and recommendations concerning the proposed information collection should be sent within 30 days of this notice to: Lauren Wittenberg, Human Resources and Housing Branch, Office of Management and Budget, New Executive Office Building, Room 10235, Washington, DC 20503.

Dated: April 15, 2002.
Richard Kopanda,
Executive Officer, SAMHSA.

[FR Doc. 02-9611 Filed 4-18-02; 8:45 am]

BILLING CODE 4162-20-P